DEPARTMENT OF THE INTERIOR

Fish and Wildlife Service

[FWS-R8-ES-2008-N0098; 11120-0008-0221-F2]

Safe Harbor Agreement for the Northern Spotted Owl for Fred M. van Eck Forest Foundation, Humboldt County, CA

AGENCY: Fish and Wildlife Service, Interior.

ACTION: Notice of availability and receipt of application.

SUMMARY: This notice advises the public that the Fred M. van Eck Forest Foundation (Applicant) has applied to the Fish and Wildlife Service (Service) for an enhancement of survival permit pursuant to Section 10(a)(1)(A) of the Endangered Species Act of 1973, as amended (Act). The permit application includes a proposed Safe Harbor Agreement (Agreement) between the Applicant and the Service for the threatened northern spotted owl (Strix occidentalis caruina). The proposed Agreement and permit would remain in effect for 90 years. We request comments from the public on the permit application and an Environmental Action Statement that has been prepared to comply with the National Environmental Policy Act.

DATES: Written comments should be received on or before August 7, 2008.

ADDRESSES: Send written comments to Mr. Michael Long, Field Supervisor, Fish and Wildlife Service, 1655 Heindon Road, Arcata, California 95521. You also may send comments by facsimile to (707) 822-8411.

FOR FURTHER INFORMATION CONTACT: Mr. John Hunter (ADDRESSES) (707) 822-7201.

SUPPLEMENTARY INFORMATION:

Background

Under a Safe Harbor Agreement, participating landowners voluntarily undertake management activities on their property to enhance, restore, or maintain habitat benefiting species listed under the Act. Safe Harbor Agreements, and the subsequent enhancement of survival permits that are issued pursuant to Section 10(a)(1)(A) of the Act (15 U.S.C. 1531 et seq.), encourage private and other non-Federal property owners to implement conservation efforts for listed species, by assuring property owners that they will not be subject to increased land use restriction as a result of efforts to attract or increase the numbers or distribution of a listed species on their property. Application requirements and issuance criteria for enhancement of survival permits through Safe Harbor Agreements are found in 50 CFR 17.22(c) and 17.32(c).

We have worked with the Fred M. van Eck Forest Foundation to develop a Safe Harbor Agreement for the creation and enhancement of habitat for the northern spotted owl on four Fred M. van Eck Forest Foundation properties totaling 2,163 acres in Humboldt County, California. The term of the proposed Agreement is 90 years. Currently the properties support 1,730 acres of northern spotted owl nesting and roosting habitat and one northern spotted owl activity center. We anticipate that under the northern spotted owl habitat creation and enhancement timber management regime proposed in the Agreement, approximately 1,947 acres of nesting and roosting habitat and potentially up to five northern spotted owl activity centers could exist on the property at the end of 90 years. The proposed Safe Harbor Agreement does not provide for a return to baseline conditions at the end of the Agreement term. Instead, the Agreement provides that if more than five northern spotted owl activity centers should become established on the property during the 90 year term, the Applicant would be allowed to remove such additional activity centers during the Agreement period. Under the Agreement, Fred M. van Eck Forest Foundation will: (1) Conduct surveys annually to determine the locations and reproductive status of any northern spotted owls; (2) protect up to five activity centers (locations where owls are observed nesting or roosting) with a no-harvest area that buffers the activity center by no less than 100 feet; (3) utilize selective timber harvest methods such that suitable nesting habitat is maintained within 300 feet of each activity center; (4) limit noise disturbance from timber harvest operations within 1,000 feet of an active nest during the breeding season; and (5) manage all second growth redwood timber on the property in a manner that maintains or creates suitable nesting and roosting habitat over time.

Consistent with our Safe Harbor Policy, we propose to issue a 90 year permit to Fred M. van Eck Forest Foundation authorizing take of northern spotted owls incidental to timber harvest operations carried out in accordance with the habitat management provisions in the Agreement. Specifically, if more than five northern spotted owl activity centers become established on the property, take of northern spotted owls associated with the effects of timber harvest on such additional northern spotted owl activity centers would be authorized under the incidental take permit during the 90 year permit term. At the end of the 90 year Agreement and permit term, no further take of northern spotted owls would be allowed unless the Safe Harbor Agreement and incidental take permit are renewed or extended. The development and maintenance of high-quality habitat in a matrix of private timberland subject to even-aged management regimes will provide a relatively stable habitat condition that we believe will provide high productivity for multiple generations of spotted owls. Therefore, the cumulative impact of the Agreement and the activities it covers, which are facilitated by the allowable incidental take, is expected to provide a net conservation benefit to the northern spotted owl.

Public Review and Comments

Individuals wishing copies of the permit application, the Environmental Action Statement, or copies of the full text of the Safe Harbor Agreement, including a map of the proposed permit area, references, and legal descriptions of the proposed permit area, should contact the office and personnel listed in the ADDRESSES section. Documents will also be available for public inspection, by appointment, during normal business hours at this office (see ADDRESSES).

We invite the public to review the Safe Harbor Agreement and Environmental Action Statement during a 30-day public comment period (see DATES). Before including your address, phone number, e-mail address, or other personal identifying information in your comment, you should be aware that your entire comment—including your personal identifying information—may be made publicly available at any time. While you may ask us in your comment to withhold your personal identifying information from public review, we cannot guarantee that we will be able to do so.

We provide this notice pursuant to Section 10(c) of the Act. We will evaluate the permit application, associated documents, and comments submitted therein to determine whether the permit application meets the requirements of Section 10(a) of the Act and NEPA regulations. If, upon completion of the 30-day comment period, we determine that the requirements are met, we will sign the Agreement and issue an enhancement of survival permit under Section 10(a)(1)(A) of the Act to Fred M. van Eck Forest Foundation for take of northern spotted owls incidental to otherwise lawful activities in accordance with the terms of the Agreement.

Dated: June 12, 2008.
Michael M. Long,
Field Supervisor, Arcata Fish and Wildlife Office, Arcata, California.

[FR Doc. E8-15365 Filed 7-7-08; 8:45 am]

BILLING CODE 4310-55-P